NATIONAL SCIENCE FOUNDATION

Committee on Equal Opportunities in Science and Engineering; Notice of Meeting

In accordance with the Federal Advisory Committee Act (Pub. L. 92-463, as amended), the National Science Foundation announces the following meeting:

Name: Committee on Equal Opportunities in Science and Engineering (1173).

Dates/Time: October 15, 2015, 10:00 a.m.-12 Noon and 1:00 p.m.-4:00 p.m.

Place: National Science Foundation (NSF), 4201 Wilson Boulevard, Room 1235, Arlington, VA 22230.

Note: CEOSE AC members will participate virtually. If you are interested in attending this meeting, you are required to attend in person. To help facilitate your entry into the building, please contact Victoria Fung (vfung@nsf.gov) on or prior to October 13, 2015.

Type of Meeting: Open.

Contact Person: Dr. Bernice T. Anderson, Senior Advisor and CEOSE Executive Secretary, Office of Integrative Activities (OIA), National Science Foundation, 4201 Wilson Boulevard, Arlington, VA 22230, (703) 292-8040 (main), Email Address: banderso@nsf.gov.

Minutes: Meeting minutes and other information may be obtained from the CEOSE Executive Secretary at the above address or the Web site at http://www.nsf.gov/od/oia/activities/ceose/index.jsp.

Purpose of Meeting: To study data, programs, policies, and other information pertinent to the National Science Foundation and to provide advice and recommendations concerning broadening participation in science and engineering.

Agenda (Tentative): Please access CEOSE Web site, http://www.nsf.gov/od/oia/activities/ceose/index.jsp for final version.

Thursday, October 15, 2015

Opening Statement by the CEOSE Chair

Presentations and Discussions:

• Update of NSF Broadening Participation Activities by the CEOSE Executive Liaison

• Presentation of Inclusion across the Nation of Communities of Learners that have been Underrepresented for Diversity in Engineering and Science (NSF INCLUDES)

• Discussion with Dr. France Córdova, Director and Dr. Richard Buckius, Chief Operating Officer of the National Science Foundation

• Reports of CEOSE Liaisons to NSF Advisory Committees

• Updates by Federal Agency Liaisons About Interagency Broadening Participation Activities

• Presentation of NSF Evaluation and Assessment Capability (EAC)

• Production of the 2015-2016 CEOSE Biennial Report to Congress

Dated: September 14, 2015.
Crystal Robinson,
Committee Management Officer.

[FR Doc. 2015-23437 Filed 9-17-15; 8:45 am]

BILLING CODE 7555-01-P